CONSUMER PRODUCT SAFETY COMMISSION

16 CFR Parts 1245, 1421, 1422, and 1500

[Docket Nos. CPSC-2009-0087, CPSC-2011-0074, CPSC-2021-0014, and CPSC-2021-0015]

Withdrawal of Proposed Regulatory Actions

AGENCY: Consumer Product Safety Commission.

ACTION: Notice of withdrawal of proposed rules.

SUMMARY: The U.S. Consumer Product Safety Commission (Commission or CPSC) is formally withdrawing certain notices of proposed rulemaking issued between October 2009 and July 2024. The Commission does not intend to issue final rules with respect to these proposals. If the Commission decides to pursue future regulatory action in any of these areas, it will issue a new proposed rule.

DATES: The Commission is withdrawing the proposed rules published at 74 FR 55495 (October 28, 2009), 82 FR 22190 (May 12, 2017), 87 FR 43688 (July 21, 2022), and 89 FR 61363 (July 31, 2024) as of September 29, 2025.

FOR FURTHER INFORMATION CONTACT: Matthew A. Campbell, General Counsel, U.S. Consumer Product Safety Commission, 4330 East-West Highway, Bethesda, MD 20814; telephone: (301) 504-0124; email: mcampbell@cpsc.gov.

SUPPLEMENTARY INFORMATION:

I. Background

The Commission is withdrawing the proposed rulemaking documents described below. The Commission does not intend to issue final rules with respect to these proposals. If the Commission decides to pursue future regulatory action in any of these areas, it will issue a new proposed rule.

Safety Standard Addressing Blade-Contact Injuries on Table Saws

On October 11, 2011, the Commission started a rulemaking with an advance notice of proposed rulemaking (ANPR).¹ On May 12, 2017, the Commission published a notice of proposed rulemaking (NPR) under the Consumer Product Safety Act (CPSA) proposing to establish a performance standard that requires table saws to limit the depth of cut to no more than 3.5 mm when a test probe, acting as surrogate for a human finger or other body part, approaches the spinning blade at a rate of 1 meter per second (m/s).² Subsequentially, on November 1, 2023, the Commission published a supplemental notice of proposed rulemaking.³

¹ 76 FR 62678 (October 11, 2011) https://www.federalregister.gov/documents/2011/10/11/2011-26171/table-saw-blade-contact-injuries-advance-notice-of-proposed-rulemaking-request-for-comments-and.

² 82 FR 22190 (May 12, 2017) https://www.federalregister.gov/documents/2017/05/12/2017-09098/safety-standard-addressing-blade-contact-injuries-on-table-saws.

³ Nov. 1, 2023 (88 FR 74909)

https://www.federalregister.gov/documents/2023/11/01/2023-23898/safety-standard-addressing-blade-contact-injuries-on-table-saws.

Standard for Recreational Off-Highway Vehicles

On October 28, 2009, the Commission started a rulemaking with the publication of an ANPR under the CPSA to consider whether there may be unreasonable risks of injury and death associated with overturning and collisions related to recreational off-highway vehicles (OHVs).⁴

⁴ 74 FR 55495 (October 28, 2009) https://www.federalregister.gov/documents/2009/10/28/E9-25959/standard-for-recreational-off-highway-vehicles

Safety Standard for Fire and Debris-Penetration Hazards

On May 11, 2021, the Commission started a rulemaking with the publication of an ANPR inviting comments concerning the risks of injury associated with OHV fire and debris-penetration hazards.⁵ On July 21, 2022, the Commission published an NPR under the CPSA to propose requirements to prevent debris penetration into the occupant area of OHVs, including recreational off-highway vehicles and utility task/terrain vehicles.⁶

⁵ 86 FR 25817 (May 11, 2021) https://www.federalregister.gov/documents/2021/05/11/2021-09881/off-highway-vehicle-ohv-fire-and-debris-penetration-hazards-advance-notice-of-proposed-rulemaking.

⁶ 87 FR 43688 (July 21, 2022) https://www.federalregister.gov/documents/2022/07/21/2022-15355/safety-standard-for-debris-penetration-hazards.

Banned Hazardous Substances: Aerosol Duster Products Containing More Than 18 mg in Any Combination of HFC-152a and/or HFC-134a

On July 31, 2024, the Commission published a notice of proposed rulemaking to declare that any aerosol duster products that contain more than 18 mg in any combination of HFC-152a and/or HFC-134a are banned hazardous substances under the Federal Hazardous Substances Act (FHSA).⁷

⁷ 89 FR 61363 (July 31, 2024) https://www.federalregister.gov/documents/2024/07/31/2024-16716/banned-hazardous-substances-aerosol-duster-products-containing-more-than-18-mg-in-any-combination-of.

II. Withdrawal of Proposed Rules

The Commission is withdrawing these proposals because, as noted above, the Commission no longer intends to issue final rules with respect to these proposals. If the Commission decides to pursue future regulatory action in any of these areas, it will do so by publishing a new proposed rule or other issuance consistent with the requirements of the Administrative Procedure Act, as applicable.

Alberta E. Mills,
Secretary, Consumer Product Safety Commission.

[FR Doc. 2025-18810 Filed 9-26-25; 8:45 am]

BILLING CODE 6355-01-P